DEPARTMENT OF ENERGY

Federal Energy Regulatory Commission

[Docket No. CP26-14-000]

Mountain Valley Pipeline, LLC; Notice of Schedule for the Preparation of an Environmental Assessment for the Mountain Valley Pipeline Boost Project

On October 23, 2025, Mountain Valley Pipeline, LLC (Mountain Valley) filed an application in Docket No. CP26-14-000 requesting a Certificate of Public Convenience and Necessity pursuant to Section 7(c) of the Natural Gas Act to construct and operate certain natural gas pipeline facilities. The proposed project is known as the Mountain Valley Pipeline Boost Project (Project) and would provide about 600,000 dekatherms of natural gas per day from interconnection points with Equitrans, L.P. and EQM Gathering Opco, LLC to delivery points on the Mountain Valley Pipeline Mainline system and Mountain Valley Pipeline Southgate system.

On November 5, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1767605403.

Schedule for Environmental Review

Issuance of EA August 7, 2026

90-day Federal Authorization Decision Deadline ² November 5, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Mountain Valley proposes to make modifications to three existing compressor stations (CS) and construct and operate the new Swann CS. The Project would consist of the following facilities:

• installation of one additional natural gas turbine and auxiliary facilities to add an additional 23,470 horsepower (hp) to the Bradshaw CS in Wetzel County, WV;

• relocation of existing blowdown silencers and installation of one additional natural gas turbine and auxiliary facilities to add an additional 52,500 hp to the Harris CS in Braxton County, WV;

• relocation of existing blowdown silencers and installation of two additional natural gas turbines and auxiliary facilities and upgrades to two existing natural gas turbines to add an additional 52,880 hp to the Stallworth CS in Fayette County, WV;

• installation of a new compressor station with three natural gas turbines, for a total of 136,900 hp at the Swann CS in Montgomery County, VA; and

• installation of a new pig launcher and receiver,³ mainline valve, and auxiliary facilities at the Swann CS.

³ A “pig” is a tool that the pipeline company inserts into and pushes through the pipeline for cleaning the pipeline, conducting internal inspections, or other purposes.

Background

On November 19, 2025, the Commission issued a Notice of Scoping Period Requesting Comments on Environmental Issues for the Proposed MVP Boost Project (Notice of Scoping). The Notice of Scoping was sent to affected landowners; federal, state, and local government agencies; elected officials; environmental and public interest groups; Native American tribes; other interested parties; and local libraries and newspapers. In response to the Notice of Scoping, the Commission received comments from 11 non-governmental organizations, five municipalities, two counties, four state agencies, one federal agency, three companies, six state-elected officials, one Congressmember, and more than 80 individuals. The primary issues raised by the commenters are concerns regarding groundwater, waterbodies, wildlife, traffic, air emissions, noise and vibration effects, compressor station site and facility alternatives, pipeline safety associated with the increased capacity, human health, climate change, segmentation, and the length of the scoping comment period. All substantive comments will be addressed in the EA.

The U.S. Army Corps of Engineers, Huntington District, is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202)502-6595 or OPP@ferc.gov.

Additional information about the Project is available from the FERC website (www.ferc.gov). Using the “eLibrary” link, select “General Search” from the eLibrary menu, enter the selected date range and “Docket Number” excluding the last three digits (i.e., CP26-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 14, 2026.
Debbie-Anne A. Reese,
Secretary.

[FR Doc. 2026-00990 Filed 1-16-26; 8:45 am]

BILLING CODE 6717-01-P